DEPARTMENT OF HEALTH AND HUMAN SERVICES

National Institutes of Health

National Institute of Diabetes and Digestive and Kidney Diseases; Amended Notice of Meeting

Notice is hereby given of a change in the meeting of the National Institute of Diabetes and Digestive and Kidney Diseases Special Emphasis Panel, June 19, 2019, 8:00 a.m. to June 19, 2019, 6:00 p.m., Doubletree Hotel Bethesda, (Formerly Holiday Inn Select), 8120 Wisconsin Avenue, Bethesda, MD 20814 which was published in the Federal Register on May 22, 2019, FR Vol. 84 No. 99.

The meeting date and time has been changed and will now be held on June 24, 2019 from 4:00 p.m. until 6:00 p.m. This meeting is closed to the public.

Dated: June 21, 2019.
Melanie J. Pantoja,
Program Analyst, Office of Federal Advisory Committee Policy.

[FR Doc. 2019-13684 Filed 6-26-19; 8:45 am]

BILLING CODE 4140-01-P